NUCLEAR REGULATORY COMMISSION

[NRC-2013-0001]

Sunshine Act Meeting

AGENCY HOLDING THE MEETINGS: Nuclear Regulatory Commission.

DATES: Weeks of July 15, 22, 29, August 5, 12, 19, 2013.

PLACE: Commissioners' Conference Room, 11555 Rockville Pike, Rockville, Maryland.

STATUS: Public and Closed.

Week of July 15, 2013

There are no meetings scheduled for the week of July 15, 2013.

Week of July 22, 2013—Tentative

There are no meetings scheduled for the week of July 22, 2013.

Week of July 29, 2013—Tentative

There are no meetings scheduled for the week of July 29, 2013.

Week of August 5, 2013—Tentative

There are no meetings scheduled for the week of August 5, 2013.

Week of August 12, 2013—Tentative

There are no meetings scheduled for the week of August 12, 2013.

Week of August 19, 2013—Tentative

There are no meetings scheduled for the week of August 19, 2013.

* * * * *

*The schedule for Commission meetings is subject to change on short notice. To verify the status of meetings, call (recording)—301-415-1292. Contact person for more information: Rochelle Bavol, 301-415-1651.

* * * * *

Additional Information

By a vote of 5-0 on July 10, 2013, the Commission determined pursuant to U.S.C. 552b(e) and '9.107(a) of the Commission's rules that a Discussion of Management and Personnel Issues (Closed—Ex. 2 & 6) be held on July 11, 2013, with less than one week notice to the public. The meeting was held on July 11, 2013.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at kimberly.meyer-chambers@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: July 11, 2013.
Rochelle C. Bavol,
Policy Coordinator, Office of the Secretary.

[FR Doc. 2013-17124 Filed 7-12-13; 4:15 pm]

BILLING CODE 7590-01-P